DEPARTMENT OF COMMERCE

National Oceanic and Atmospheric Administration

50 CFR Part 300

RIN 0648-AX72

Certification of Nations Whose Fishing Vessels Are Engaged in Illegal, Unreported, or Unregulated Fishing or Bycatch of Protected Living Marine Resources

AGENCY: National Marine Fisheries Service (NMFS), National Oceanic and Atmospheric Administration (NOAA), Commerce.

ACTION: Notice of public input sessions; request for comments.

SUMMARY: NMFS published an advanced notice of proposed rulemaking (ANPR) to announce that it is developing certification procedures to address illegal, unreported, or unregulated (IUU) fishing activities and bycatch of protected living marine resources pursuant to the High Seas Driftnet Fishing Moratorium Protection Act. This notice is to announce three public input sessions to discuss and collect comments on the issues described in the ANPR.

DATES: Public input sessions will be held in July of 2007. For specific dates and times, see SUPPLEMENTARY INFORMATION.

ADDRESSES: Public input sessions will be held in Silver Spring, MD; Long Beach, CA; and Seattle, WA. For details, see SUPPLEMENTARY INFORMATION.

FOR FURTHER INFORMATION CONTACT: Christopher Rogers (ph. 301-713-9090, fax 301-713-9106, e-mail christopher.rogers@noaa.gov).

SUPPLEMENTARY INFORMATION: On June 11, 2007 (72 FR 32052), NMFS published an advance notice of proposed rulemaking to announce that it is developing certification procedures to address illegal, unreported, or unregulated (IUU) fishing activities and bycatch of protected living marine resources pursuant to the High Seas Driftnet Fishing Moratorium Protection Act.

Request for Comments

NMFS is seeking advance public comment on the development of these procedures and on the sources and types of information to be considered in the process. Three opportunities for public input have been arranged to provide the public an opportunity to comment. Comments received on the ANPR will assist NMFS in developing a proposed rule.

Dates, Times, and Locations

The public input sessions will be held as follows:

1. Monday, July 2, 2007, 3-5 p.m. NMFS Headquarters Science Center, SSMC4, 1310 East-West Highway, Silver Spring, MD 20910; phone 301-713-9090.

2. Thursday, July 5, 2007, 3-5 p.m. NMFS Southwest Regional Office, 501 West Ocean Boulevard, Room 3470, Long Beach, CA 90802; phone 562-980-4040.

3. Thursday, July 5, 2007, 3-5 p.m. NMFS Northwest Regional Office, 7600 Sand Point Way NE, Building 9 Auditorium, Seattle, WA 98115; phone 206-526-6150.

Special Accommodations

The sessions are physically accessible to people with disabilities. Requests for sign language interpretation or other auxiliary aids should be directed to Christopher Rogers (see FOR FURTHER INFORMATION CONTACT) at least 7 days prior to the session.

Dated: June 12, 2007.
Rebecca Lent,
Director, Office of International Affairs, National Marine Fisheries Service.

[FR Doc. E7-11624 Filed 6-15-07; 8:45 am]

BILLING CODE 3510-22-S